DEPARTMENT OF THE INTERIOR

Fish and Wildlife Service

[FWS-R1-ES-2011-N201; 10120-1113-0000-F5]

Endangered and Threatened Wildlife and Plants; Recovery Permit Application

AGENCY: Fish and Wildlife Service, Interior.

ACTION: Notice of availability; request for comments.

SUMMARY: We, the U.S. Fish and Wildlife Service (Service), invite the public to comment on the following application for a recovery permit to conduct enhancement of survival activities with endangered species. The Endangered Species Act of 1973, as amended (Act), prohibits activities with endangered species unless a Federal permit allows such activity. The Act also requires that we invite public comment before issuing such permits.

DATES: To ensure consideration, please send your written comments by November 17, 2011.

ADDRESSES: Endangered Species Program Manager, Ecological Services, U.S. Fish and Wildlife Service, Pacific Regional Office, 911 NE 11th Avenue, Portland, OR 97232-4181. Please refer to the permit number for the application when submitting comments.

FOR FURTHER INFORMATION CONTACT: Grant Canterbury, Fish and Wildlife Biologist, at the above address or by telephone (503-231-2071) or fax (503-231-6243).

SUPPLEMENTARY INFORMATION:

Background

The Act (16 U.S.C. 1531 et seq.) prohibits activities with endangered and threatened species unless a Federal permit allows such activity. Along with our implementing regulations in the Code of Federal Regulations (CFR) at 50 CFR 17, the Act provides for permits, and requires that we invite public comment before issuing these permits.

A permit granted by us under section 10(a)(1)(A) of the Act authorizes the permittee to conduct activities with U.S. endangered or threatened species for scientific purposes, enhancement of propagation or survival, or interstate commerce. Our regulations implementing section 10(a)(1)(A) for these permits are found at 50 CFR 17.22 for endangered wildlife species, 50 CFR 17.32 for threatened wildlife species, 50 CFR 17.62 for endangered plant species, and 50 CFR 17.72 for threatened plant species.

Application Available for Review and Comment

We invite local, State, and Federal agencies, and the public to comment on the following application. Please refer to the appropriate permit number for the application when submitting comments.

Documents and other information submitted with this application are available for review, subject to the requirements of the Privacy Act (5 U.S.C. 552a) and Freedom of Information Act (5 U.S.C. 552).

Permit Number: TE-003483

Applicant: U.S. Geological Survey, Pacific Island Ecosystem Research Center, Honolulu, Hawaii.

The permittee requests an amendment to an existing permit to take (capture; band; collect blood, ectoparasites, fecal samples, feather samples, and tissue scrapings of lesions; measure, and release) the Maui akepa (Loxops coccineus ochraceus), small Kauai thrush (Myadestes palmeri), and Kauai creeper (Oreomystis bairdi); and take (capture; band; collect blood, ectoparasites, fecal samples, feather samples, and tissue scrapings of lesions; measure, attach radio transmitters, release, and search for and monitor nests) the akiapolaau (Hemignathus munroi), Hawaii akepa (Loxops coccineus coccineus), and Hawaii creeper (Oreomystis mana) in conjunction with monitoring and population studies on the islands of Hawaii and Kauai in the State of Hawaii, for the purpose of enhancing the species' survival.

The existing permit currently covers limited take of the following species:

Palila (Loxioides bailleui),

Laysan duck (Anas laysanensis),

Hawaiian hoary bat (Lasiurus cinereus semotus),

Nene (Branta sandvicensis).

The existing permit also currently covers removal and reduction to possession of the following species:

Cyrtandra giffardii (haiwale),

Melicope zahlbruckneri (alani),

Nothocestrum breviflorum (aiea),

Phyllostegia parviflora var. glabriuscula (no common name),

Pleomele hawaiiensis (hala pepe),

Portulaca sclerocarpa (poe),

Sesbania tomentosa (ohai).

National Environmental Policy Act (NEPA)

In compliance with NEPA (42 U.S.C. 4321 et seq.), we have made an initial determination that the proposed activities in this permit are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.)

Dated: October 7, 2011.
Richard R. Hannan,
Acting Regional Director, Pacific Region, U.S. Fish and Wildlife Service.

[FR Doc. 2011-26866 Filed 10-17-11; 8:45 am]

BILLING CODE 4310-55-P